DEPARTMENT OF COMMERCE

Foreign-Trade Zones Board

[B-50-2024]

Foreign-Trade Zone (FTZ) 49, Notification of Proposed Production Activity; Merck, Sharp & Dohme LLC; (Pharmaceutical Products for Research and Development); Rahway, New Jersey

Merck, Sharp & Dohme LLC submitted a notification of proposed production activity to the FTZ Board (the Board) for its facility in Rahway, New Jersey, within Subzone 49Y. The notification conforming to the requirements of the Board's regulations (15 CFR 400.22) was received on September 18, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product and material/component would be added to the production authority that the Board previously approved for the operation, as reflected on the Board's website.

The proposed finished product for research and development is MK-6878 HIV drug product (duty-free).

The proposed foreign-status material/component is MK-6878 HIV active pharmaceutical ingredient (duty rate, 6.5%). The request indicates that this material/component is subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 5, 2024.

A copy of the notification will be available for public inspection in the “Online FTZ Information System” section of the Board's website.

For further information, contact Diane Finver at Diane.Finver@trade.gov.

Dated: September 23, 2024.
Elizabeth Whiteman,
Executive Secretary.

[FR Doc. 2024-22102 Filed 9-25-24; 8:45 am]

BILLING CODE 3510-DS-P